DEPARTMENT OF COMMERCE

International Trade Administration

[A-552-801]

Certain Frozen Fish Fillets From the Socialist Republic of Vietnam: Partial Rescission of Antidumping Duty Administrative Review; 2012-2013

AGENCY: Enforcement and Compliance, Formerly Import Administration, International Trade Administration, Department of Commerce.

SUMMARY: The Department of Commerce (“the Department”) is partially rescinding the administrative review of the antidumping duty order on certain frozen fish fillets from the Socialist Republic of Vietnam for the period August 1, 2012, through July 31, 2013, based on the timely withdrawals of certain requests for review.

DATES: Effective Date: February 3, 2014.

FOR FURTHER INFORMATION CONTACT: Paul Walker or Steven Hampton, AD/CVD Operations, Office V, Enforcement and Compliance, International Trade Administration, Department of Commerce, 14th Street and Constitution Avenue NW., Washington, DC 20230; telephone: (202) 482-0413 or (202) 482-0116, respectively.

SUPPLEMENTARY INFORMATION:;

Background

On August 1, 2013, the Department published a notice of opportunity to request an administrative review of the antidumping duty order on certain frozen fish fillets from the Socialist Republic of Vietnam.¹ Pursuant to requests from interested parties, the Department initiated an administrative review with respect to 33 exporters for the period August 1, 2012 through July 31, 2013.² On November 8, 2013, the Department published a correction notice to include two companies that were inadvertently omitted from the Initiation Notice.³ The deadline for a party to withdraw a request for review was December 31, 2013.⁴

¹ See Antidumping or Countervailing Duty Order, Finding, or Suspended Investigation; Opportunity To Request Administrative Review, 78 FR 46573 (August 1, 2013).

² See Initiation of Antidumping and Countervailing Duty Administrative Reviews and Request for Revocation in Part, 78 FR 60834 (October 2, 2013) (“Initiation Notice”).

³ See Initiation of Antidumping and Countervailing Duty Administrative Reviews and Request for Revocation in Part, 78 FR 67104 (November 8, 2013).

⁴ See Initiation Notice, 78 FR at 60835.

As explained in the memorandum from the Assistant Secretary for Enforcement and Compliance, the Department exercised its discretion to toll deadlines for the duration of the closure of the Federal Government from October 1, through October 16, 2013.⁵ Thus, all of the deadlines in this segment of the proceeding were extended by 16 days. Therefore, the revised deadline for a party to withdraw a request for review was January 16, 2013.

⁵ See Memorandum for the Record from Paul Piquado, Assistant Secretary for Enforcement and Compliance, “Deadlines Affected by the Shutdown of the Federal Government” (October 18, 2013).

Withdrawal of Review Requests

On December 27, 2013, Vinh Hoan Corporation (“Vinh Hoan”) withdrew its review request.⁶ On January 3, 2014, Petitioner ⁷ withdrew its review requests with respect to nine companies, including An Phu Seafood Corporation (“An Phu Seafood”) and Vinh Hoan.⁸ On January 16, 2014, Bien Dong Seafood Co., Ltd (“Bien Dong Seafood”) withdrew its review request,⁹ and Petitioner withdrew its review request with respect to Bien Dong Seafood on the same date.¹⁰ No other party requested an administrative review of An Phu Seafood, Bien Dong Seafood, or Vinh Hoan.

⁶ See Letter from Vinh Hoan regarding Frozen Fish Fillets from the Socialist Republic of Vietnam: Withdraw of Request for Administrative Review—Vinh Hoan Corporation, dated December 27, 2013.

⁷ Catfish Farmers of America and individual U.S. catfish processors America's Catch, Alabama Catfish Inc. dba Harvest Select Catfish, Inc., Heartland Catfish Company, Magnolia Processing, Inc. dba Pride of the Pond, and Simmons Farm Raised Catfish, Inc. (hereinafter, “Petitioner”).

⁸ See Letter from Petitioner regarding Certain Frozen Fish Fillets from the Socialist Republic of Vietnam: Partial Withdrawal of Request for Antidumping Duty Administrative Review, dated January 3, 2014. Petitioner withdrew their review requests with respect to An Giang Agriculture and Food Import-Export Joint Stock Company, An Phu Seafood, Dai Thanh Seafoods Co., Ltd., Fatifish Company Limited, GODACO Seafood Joint Stock Company, Hoang Long Seafood Processing Co., Ltd., Hung Vuong Seafood Joint Stock Company, Nam Viet Corporation, and Vinh Hoan.

⁹ See Letter from Bien Dong Seafood regarding Frozen Fish Fillets from the Socialist Republic of Vietnam: Withdrawal of Request for Administrative Review—Bien Dong Seafood Co., Ltd., dated January 16, 2014.

¹⁰ See Letter from Petitioner regarding Certain Frozen Fish Fillets from the Socialist Republic of Vietnam: Partial Withdrawal of Request for Antidumping Duty Administrative Review, dated January 16, 2014.

Partial Rescission of Administrative Review

Pursuant to 19 CFR 351.213(d)(1), the Department will rescind an administrative review, in whole or in part, if the parties that requested a review withdraw the request within 90 days of the date of publication of the notice of initiation. Vinh Hoan's, Bien Dong Seafood's, and Petitioner's withdrawals of their review requests of Vinh Hoan, Bien Dong Seafood, and An Phu Seafood were submitted within the deadline set forth under 19 CFR 351.213(d)(1). Moreover, An Phu Seafood,¹¹ Bien Dong Seafood,¹² and Vinh Hoan ¹³ obtained separate rates in the most recently-completed segments of this proceeding in which they were under review. Therefore, in accordance with 19 CFR 351.213(d)(1), the Department is rescinding this review of the antidumping duty order on certain frozen fish fillets from the Socialist Republic of Vietnam with respect to An Phu Seafood, Bien Dong Seafood, and Vinh Hoan. The review will continue with respect to the 32 other firms for which a review was requested and initiated.

¹¹ See Certain Frozen Fish Fillets From the Socialist Republic of Vietnam: Final Results of Antidumping Duty Administrative Review and New Shipper Review; 2010-2011, 78 FR 17350 (March 21, 2013).

¹² See Certain Frozen Fish Fillets From the Socialist Republic of Vietnam: Final Results of Antidumping Duty Administrative Review and Partial Rescission of Seventh Antidumping Duty Administrative Review, 77 FR 15039 (March 14, 2012).

¹³ See Certain Frozen Fish Fillets From the Socialist Republic of Vietnam: Amended Final Results of the Antidumping Duty Administrative Review, 2010-2011, 78 FR 29323 (May 20, 2013).

Assessment

The Department will instruct U.S. Customs and Border Protection (“CBP”) to assess antidumping duties on all appropriate entries, consistent with 19 CFR 351.212(b)(1). For An Phu Seafood, Bien Dong Seafood, and Vinh Hoan, each of which obtained separate rates in the most recently-completed segment of this proceeding in which they were under review, antidumping duties shall be assessed at rates equal to the cash deposit of estimated antidumping duties required at the time of entry, or withdrawal from warehouse, for consumption, during the period August 1, 2012, through July 31, 2013, in accordance with 19 CFR 351.212(c)(1)(i). The Department intends to issue appropriate assessment instruction to CBP 15 days after publication of this notice.

Notifications

This notice serves as a final reminder to importers of their responsibility under 19 CFR 351.402(f)(2) to file a certificate regarding the reimbursement of antidumping duties prior to liquidation of the relevant entries during this review period. Failure to comply with this requirement could result in the presumption that reimbursement of antidumping duties occurred and the subsequent assessment of double antidumping duties.

This notice also serves as a final reminder to parties subject to the administrative protective order (“APO”) of their responsibility concerning the disposition of proprietary information disclosed under an APO in accordance with 19 CFR 351.305(a)(3). Timely written notification of the return or destruction of APO materials, or conversion to judicial protective order, is hereby requested. Failure to comply with the regulations and terms of an APO is a violation which is subject to sanction.

This notice is issued and published in accordance with section 777(i)(1) of the Tariff Act of 1930, as amended, and 19 CFR 351.213(d)(4).

Dated: January 27, 2014.
Gary Taverman,
Senior Advisor, for Antidumping and Countervailing Duty Operations.

[FR Doc. 2014-02194 Filed 1-31-14; 8:45 am]

BILLING CODE 3510-DS-P